DEPARTMENT OF HEALTH AND HUMAN SERVICES

Centers for Disease Control and Prevention

[60-Day-12-0008]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Emergency Epidemic Investigations—Revision—(0920-0008)(expires 1/21/2013), Scientific Education and Professional Development Program Office (SEPDPO), Office of Surveillance, Epidemiology, and Laboratory Services (OSELS), Centers for Disease Control and Prevention (CDC).

Background and Brief Description of the Proposed Project

One of the objectives of CDC's epidemic services is to provide for the prevention and control of epidemics, and protect the population from public health crises such as human-made or natural biological disasters and chemical emergencies. CDC meets this objective, in part, by training investigators, maintaining laboratory capabilities for identifying potential problems, collecting and analyzing data, and recommending appropriate actions to protect the public's health. When state, local, or foreign health authorities request help in controlling an epidemic or solving other health problems, CDC dispatches skilled epidemiologists from the Epidemic Intelligence Service (EIS) to investigate and resolve the problem. Resolving public health problems rapidly ensures cost-effective health care and enhances health promotion and disease prevention.

The purpose of the Emergency Epidemic Investigation surveillance is to collect data from the general public on the conditions surrounding and preceding the onset of a problem. The data is collected from 15,000 respondents in the general public for an annualized total of 3,750 burden hours (15,000 respondents × 15 minutes per survey). These data are collected in a timely fashion so that information can be used to develop prevention and control techniques, to interrupt disease transmission, and to help identify the cause of an outbreak. The Epi-Aid Satisfaction Survey for Requesting Officials is to assess the promptness of the investigation and the usefulness of recommendations; data are collected from 100 state and local health officials for an annualized total of 25 burden hours (100 respondents × 15 minutes per survey). This survey of state and local health officials was modified to better measure and address overall satisfaction, communication, response, and team composition and professionalism of the Epi-Aid team. The Epi-Aid mechanism is a means for Epidemic Intelligence Service (EIS) officers of CDC, along with other CDC staff, to provide technical support to state health agencies requesting assistance with epidemiologic field investigations. This mechanism allows CDC to respond rapidly to public health problems in need of urgent attention, thereby providing an important service to state and other public health agencies. Through Epi-Aids, EIS officers (and, sometimes, other CDC trainees) receive supervised training while actively participating in epidemiologic investigations. EIS is a two-year program of training and service in applied epidemiology through CDC, primarily for persons holding doctoral degrees.

Shortly after completion of the Epi-Aid investigation, an Epi Trip Report is delivered to the state health agency official(s) who requested assistance. The state and local health officials, requestors of the Epi-Aid assistance can comment on both the timeliness and the practical utility of the recommendations from the investigation by completing the Epi-Aid Satisfaction Survey for Requesting Officials to assess the promptness of the investigation and the usefulness of the recommendations. There is no cost to the respondents other than their time.

Estimated Annualized Burden Hours
Respondents | Form Name | Number of respondents | Number of responses per respondent | Avg burden per response (in hours) | Total burden (in hours)
Requestors of Epi-Aids | Epi-Aid Satisfaction Survey for Requesting Official | 100 | 1 | 15/60 | 25
General Public | Emergency Epidemic Investigations | 15,000 | 1 | 15/60 | 3,750
Total |  |  |  |  | 3,775

Kimberly Lane,
Office of Scientific Integrity, Office of the Associate Director for Science, Office of the Director, Centers for Disease Control and Prevention.

[FR Doc. 2012-19679 Filed 8-9-12; 8:45 am]

BILLING CODE 4163-18-P